DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination Act (Pub. L. 110-343) and in compliance with the Federal Advisory Committee Act.

DATES: The meeting will be held May 10, 2010, from 6 p.m. to 8:30 p.m.

ADDRESSES: The meeting will be held at the Del Norte County Unified School District, Board Room, 301 West Washington Boulevard, Crescent City, California 95531.

FOR FURTHER INFORMATION CONTACT: Julie Ranieri, Committee Coordinator, Six Rivers National Forest, 1330 Bayshore Way, Eureka, CA 95503 (707) 441-3673; e-mail jranieri@fs.fed.us.

SUPPLEMENTARY INFORMATION: The meeting is open to the public. Agenda items to be covered include: (1) Approval of Meeting Ground Rules and Operational Guidelines, (2) Discussion and decision on filling vacant replacement positions, (3) Process for soliciting project proposals and timeline, (4) Discuss on hiring someone to work with the public on project submissions, (5) Presentation on the RAC Coast to Crest Legacy Project, (6) Set a calendar of meetings.

Public input opportunity will be provided and individuals will have the opportunity to address the Committee at that time.

Dated: April 16, 2010.
Tyrone Kelley,
Forest Supervisor.

[FR Doc. 2010-9419 Filed 4-22-10; 8:45 am]

BILLING CODE P